DEPARTMENT OF COMMERCE

National Telecommunications and Information Administration

Broadband Grant Programs Public Virtual Listening Sessions

AGENCY: National Telecommunications and Information Administration, Department of Commerce.

ACTION: Notice of open meetings.

SUMMARY: The National Telecommunications and Information Administration (NTIA) will host broadband grant program public virtual listening sessions in connection with the five new broadband grant programs authorized and funded by the Infrastructure Investment and Jobs Act: The Broadband Equity, Access, and Deployment Program; the Enabling Middle Mile Broadband Infrastructure Program; and the Digital Equity Act Programs, which include the State Digital Equity Planning Grant Program, State Digital Equity Capacity Grant Program, and Digital Equity Competitive Grant Program. These public virtual listening sessions are designed to collect stakeholder input to help inform program development and implementation.

DATES: NTIA will hold the public virtual listening sessions based on the following schedule:

1. Infrastructure Investment and Jobs Act Broadband Programs Public Virtual Listening Session #1: Wednesday, December 15, 2021, from 2:30-4:00 p.m. Eastern Time (ET);

2. Infrastructure Investment and Jobs Act Broadband Programs Public Virtual Listening Session #2: Wednesday, January 12, 2022, from 2:30-4:00 p.m. ET;

3. Infrastructure Investment and Jobs Act Broadband Programs Public Virtual Listening Session #3: Wednesday, January 26, 2022, from 2:30-4:00 p.m. ET;

4. Infrastructure Investment and Jobs Act Broadband Programs Public Virtual Listening Session #4: Wednesday, February 9, 2022, from 2:30-4:00 p.m. ET; and

5. Infrastructure Investment and Jobs Act Broadband Programs Public Virtual Listening Session #5: Wednesday, February 23, 2022, from 2:30-4:00 p.m. ET.

ADDRESSES: These listening sessions will be hosted via NTIA's virtual platform and conducted as a live public listening session. NTIA will post the registration information on its BroadbandUSA website at https://broadbandusa.ntia.doc.gov/events/latest-events.

FOR FURTHER INFORMATION CONTACT: Maci Morin, National Telecommunications and Information Administration, U.S. Department of Commerce, Room 4872, 1401 Constitution Avenue NW, Washington, DC 20230; telephone: (202) 482-4884; email: BroadbandForAll@ntia.gov. Please direct media inquiries to NTIA's Office of Public Affairs, (202) 482-7002; email press@ntia.gov.

SUPPLEMENTARY INFORMATION: The Infrastructure Investment and Jobs Act (Pub. L. 117-58) authorized and funded five new broadband grant programs to be administered by NTIA: The Broadband Equity, Access, and Deployment Program; the Enabling Middle Mile Broadband Infrastructure Program; and the Digital Equity Act Programs, which include the State Digital Equity Planning Grant Program, State Digital Equity Capacity Grant Program, and Digital Equity Competitive Grant Program. The Broadband Equity, Access, and Deployment Program is a $42.45 billion formula-based program to states, territories, and the District of Columbia for qualifying broadband deployment, mapping, and adoption project. The Enabling Middle Mile Broadband Infrastructure Program is a competitive $1 billion grant program for the construction, improvement or acquisition of middle-mile infrastructure. The Digital Equity Act Programs—which includes the State Digital Equity Planning Grant Program, State Digital Equity Capacity Grant Program, and the Digital Equity Competitive Grant Program—allocate $2.75 billion to promote digital inclusion and equity for communities that lack the skills, technologies, and support needed to take advantage of broadband connections.

NTIA will host broadband grant program public virtual listening sessions in connection with the five new broadband grant programs authorized and funded by the Infrastructure Investment and Jobs Act. These public virtual listening sessions are designed to collect stakeholder input to help inform program development and implementation.

These public virtual listening sessions are subject to change. Session time changes will be posted on the BroadbandUSA website at https://broadbandusa.ntia.doc.gov/events/latest-events. Any public virtual listening session cancellations will also be posted on the same website. Any date change to a scheduled public virtual listening session will be provided in a notice in the Federal Register.

The presentation recording, and transcript of each public virtual listening session will be posted on the BroadbandUSA website at https://broadbandusa.ntia.doc.gov/ and NTIA's YouTube channel at: https://www.youtube.com/ntiagov within seven (7) days following the live session.

The public is invited to participate in these public virtual listening sessions. Pre-registration is required as space is limited to the first 1,000 participants. NTIA will post the registration information on its BroadbandUSA website at https://broadbandusa.ntia.doc.gov/events/latest-events. NTIA asks each registrant to provide their first and last name, city, state, zip code, job title, organization and email address for registration purposes.

Individuals requiring accommodations, such as sign language interpretation or other ancillary aids, are asked to notify the NTIA contact listed above at least ten (10) business days before the session.

General questions and comments are welcome via email to BroadbandForAll@ntia.gov.

Dated: December 1, 2021.
Kathy Smith,
Chief Counsel, National Telecommunications and Information Administration.

[FR Doc. 2021-26409 Filed 12-3-21; 8:45 am]

BILLING CODE 3510-60-P